DEPARTMENT OF JUSTICE

Parole Commission

Sunshine Act Meeting

Pursuant To The government In the Sunshine Act (Public Law 94-409) [5 U.S.C. Section 552b].

United States Parole Commission; An additional item added to the agenda of the closed meeting held at 5550 Friendship Boulevard, Chevy Chase, Maryland 20815; Correction.

AGENCY: United States Parole Commission.

ACTION: Notice of correction of previous published agenda.

SUMMARY: This notice corrects the agenda previously published in the Federal Register December 5, 2001 [66 FR 63260] by adding an additional item to the closed meeting of the Commission held in Chevy Chase, Maryland. The following item has been added to the agenda: Approval of Examiner Appointment.

Dated: December 7, 2001.
Rockne Chickinell,
General Counsel, U.S. Parole Commission.

[FR Doc. 01-30787 Filed 12-10-01; 10:08 am]

BILLING CODE 4410-31-M